DEPARTMENT OF AGRICULTURE

Forest Service

Bend-Fort Rock Ranger District; Deschutes National Forest; Deschutes County Oregon; Twin Vegetation Management and Restoration Project; Withdrawal

AGENCY: Forest Service, Agriculture (USDA).

ACTION: Notice; withdrawal.

SUMMARY: The Forest Service is withdrawing its notice of intent to prepare an environmental impact statement for the Twin Vegetation Management and Restoration Project on the Bend-Fort Rock Ranger District.

FOR FURTHER INFORMATION CONTACT: Questions concerning this notice should be directed to Bend-Fort Rock District Ranger, Kevin Stock, by email at kevin.stock@usda.gov or by phone (541) 410-2415.

Individuals who use telecommunications devices for the hearing impaired may call 711 to reach the Telecommunications Relay Service, 24 hours a day, every day of the year, including holidays.

SUPPLEMENTARY INFORMATION: The Forest Service published a notice of intent to prepare an environmental impact statement in the Federal Register on June 8, 2018, 83 FR 26642. Based on a review of the project scope and refining of proposed actions to better fit the needs of the project area, the Forest Service has made the decision to withdraw the notice.

JoLynn D. Anderson,
Agency Federal Register Officer.

[FR Doc. 2025-04391 Filed 3-17-25; 8:45 am]

BILLING CODE 3411-15-P